Title 3—

The President

Proclamation 7821 of September 25, 2004

Gold Star Mother's Day, 2004

By the President of the United States of America

A Proclamation

Americans have always answered the call to serve our Nation. Many brave American men and women have made the ultimate sacrifice to defend freedom's blessings, and no one feels their loss more deeply than their mothers. On Gold Star Mother's Day, we remember these mothers who have suffered the loss of a son or daughter through service to our country. We honor their courage and perseverance and the memory of their children.

Across our Nation, these compassionate and generous women are volunteering to serve veterans, helping families of service members, supporting educational programs that promote patriotism and citizenship, and turning their grief into action. They inspire all Americans with their compassion and service. On this day, people across America join together to honor our Gold Star mothers and send our gratitude, prayers, and best wishes to them and to their families.

The Congress, by Senate Joint Resolution 115 of June 23, 1936 (49 Stat. 1895 as amended), has designated the last Sunday in September as “Gold Star Mother's Day,” and has authorized and requested the President to issue a proclamation in observance of this day.

NOW, THEREFORE, I, GEORGE W. BUSH, President of the United States of America, do hereby proclaim Sunday, September 26, 2004, as Gold Star Mother's Day. I call upon all Government officials to display the flag of the United States over Government buildings on this solemn day. I also encourage the American people to display the flag and hold appropriate meetings in their homes, places of worship, or other suitable places as a public expression of the sympathy and respect that our Nation holds for our Gold Star Mothers.

IN WITNESS WHEREOF, I have hereunto set my hand this twenty-fifth day of September, in the year of our Lord two thousand four, and of the Independence of the United States of America the two hundred and twenty-ninth.

B

[FR Doc. 04-22042

Filed 9-28-04; 9:04 am]

Billing code 3195-01-P